DEPARTMENT OF TRANSPORTATION

Federal Highway Administration

Environmental Impact Statement: Hardy County, West Virginia

AGENCY: Federal Highway Administration (FHWA), DOT.

ACTION: Notice of intent.

SUMMARY: The FHWA is issuing this notice to advise the public that it is revising the original notice of intent published in the Federal Register on September 30, 1996 (Volume 61, Number 190, Pages 51135-51136). The original notice stated that an environmental impact statement would be prepared for a proposed Moorefield transportation Improvement Project in Hardy County, West Virginia. After further analysis, it has been determined there will be no significant environmental impacts and the appropriate NEPA document would be an environmental assessment.

FOR FURTHER INFORMATION CONTACT: Henry E. Compton, Division Environmental Coordinator, Federal Highway Administration, West Virginia Division, Geary Plaza, Suite 200, 700 Washington Street East, Charleston, West Virginia, 25301, Telephone: (304) 347-5268

SUPPLEMENTARY INFORMATION: In lieu of preparation of an environmental impact statement, the FHWA, in cooperation with the West Virginia Division of Highways (WVDOH), will prepare an environmental assessment for the proposed Moorefield Transportation Improvement Project. The project is proposed to relieve traffic congestion associated with heavily industrialized areas within and surrounding the downtown area of Moorefield. Alternatives under consideration include (1) taking no action; (2) improve the existing highway system by constructing a four lane, limited access highway on new location.

Letters describing the proposed action and soliciting comments will be sent to appropriate federal, state, and local agencies, and to private organizations and citizens who have expressed or are known to have an interest in this proposal. An additional public meeting will be held in Moorefield when appropriate. Public notice will be given of the time and place of the meeting. An environmental assessment will be available for public and agency review and comment prior to the public meeting.

To ensure the full range of issues related to this proposed action are addressed and all significant issues identified, comments and suggestions are invited. Comments or questions concerning this proposed action or the modification of environmental document type should be directed to the FHWA at the address provided above.

(Catalog of Federal Domestic Assistance Program Number 20.205, Highway Planning and Construction. The regulations implementing Executive Order 12372 regarding intergovernmental consultation on Federal programs and activities apply to this program)
Issued on: June 30, 2000.
Henry E. Compton,
Environmental Coordinator, Charleston, West Virginia.

[FR Doc. 00-17369 Filed 7-7-00; 8:45 am]

BILLING CODE 4910-22-M